DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 7, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on April 1, 2021.
Donald P. Burger,
Chief, General Approvals and Permits Branch.

Application No. | Applicant | Regulation(s) affected | Nature of the special permits thereof
Special Permits Data—Granted
12116-M | Proserv UK Ltd | 173.201, 173.301(f), 173.302a, 173.304a | To modify the special permit to authorize a new design and corrosion resistant cylinder.
14372-M | Kidde Technologies Inc | 173.309(a), 180.213(a) | To modify the special permit to update the permit with the addition of a new part number.
14784-M | Weldship Corporation | 180.209(a), 180.209(b), 180.209(b)(1)(iv) | To modify the special permit to clarify that either AE/UE or 100% UE testing is authorized for the ten-year requalification period of cylinders.
16154-M | Patriot Fireworks USA, LLC | 172.101(i), 173.62, 173.62 | To modify the special permit to authorize cargo webbing (netting) or metal fencing or grating as authorized methods to secure fireworks against significant lateral movement and preventing the release of any fireworks into the interior of the freight container.
16163-M | The Dow Chemical Company | 172.203(a), 172.302(c), 180.605(h), 180.605(h)(3) | To modify the special permit to authorize additional liquid hazmat to be offered for transportation.
20294-M | The Dow Chemical Company | 172.302(c), 173.203(a), 180.605(h)(3) | To modify the special permit to authorize a higher maximum allowable working pressure for UN T11 portable tanks and to authorize two additional hazardous materials.
21041-M | KLA Corporation | 173.212, 173.213 | To modify the special permit to authorize a change in the description of the hazmat being offered for transportation.
21061-M | KLA Corporation | 173.212, 173.213 | To modify the special permit to authorize a new hazmat to be included in the permit.
21063-M | Cobham Mission Systems Orchard Park Inc | 173.302(a)(1) | To modify the special permit to decrease the test pressure.
21112-N | Best Sanitizers, Inc | 173.154(b)(1) | To authorize the transportation in commerce of certain corrosive materials as limited quantities despite exceeding the quantity limitations specified in 173.154.
21125-N | CTS Cylinder Sales LLC | 180.209(a), 180.209(b)(1) | To authorize the transportation in commerce of certain hazardous materials in DOT Specification 3AL cylinders manufactured from aluminum allow 6061-T6 that are requalified every ten years rather than every five years using 100% ultrasound examination.
21136-N | Cimarron Composites, LLC | 173.302(a)(1) | To authorize the manufacture, mark, sale, and use fiber reinforced composite cylinders with non-load sharing plastic liners in compliance with UN/ISO11515: 2013, Type 4.
21137-N | DGM Italia SRL | 172.101(j) | To authorize the transportation in commerce of lithium ion batteries exceeding 35 kg by cargo-only aircraft.
21157-N | Innophos, Inc |  | To authorize the transportation in commerce of polyphosphoric acid in non-authorized specification packaging.
21160-N | Alliant Techsystems Operations LLC | 173.185(a)(1) | To authorize the transportation in commerce of lithium batteries, that are not of a type proven to have passed the requirements of 38.3 in the UN Manual of Tests and Criteria, when contained in a subassembly.
21185-N | Hach Company | 172.102(b)(4), 173.36(a) | To authorization the transportation in commerce of certain PG II corrosive materials in UN 50H packagings.
21197-N | Walmart Inc | 172.301(a)(1), 172.301(c), 172.301(d), 172.312(a)(2) | To authorize the one time one way transportation of hand sanitizer for donation in mismarked cartons. (mode 1)
21202-N | Lanxess Canada Co./cie | 173.24(f)(1), 173.32(e) | To authorize the one-time, one-way transportation in commerce of organometallic liquid in a portable tank that has a defective valve that has been temporarily repaired.
Special Permits Data—Denied
16074-M | Welker, Inc | 173.201, 173.202, 173.203 | To modify the special permit to clarify the volume capacity of the approved pressure vessels.
20939-N | Arianegroup SAS | 172.101(c), 173.166 | To authorize the manufacture, mark, sale, and use of certain fire suppression devices as safety devices.
21068-N | Firepro Systems Limited | 173.166 | To authorize the transportation in commerce of fire extinguishing products which are classed as Safety Devices.
21077-N | Kraton Corporation | 173.31(d)(1)(ii) | To authorize the transportation in commerce of tank cars that have been leakage tested in lieu of visually inspected prior to shipping.
21085-M | Omron Robotics and Safety Technologies, Inc | 172.101(j), 173.185(b)(3) | To modify the special permit to authorize additional supplemental ICAO TI packing instructions.
21098-N | The Dow Chemical Company | 172.203(a), 172.302(c), 173.31(d)(1)(ii) | To authorize the transportation in commerce of tank car tanks in which the manway cover gasket has been subjected to an alternative external visual inspection.
21147-N | iPackchem Group SAS | 173.158(f)(3) | To authorize the manufacture, mark, sale, and use of UN 4G specification packagings for the transport of nitric acid where the primary receptacles are not individually overpacked in tightly closed metal packagings.
21153-N | BVI Medical, Inc | 171.24(d)(2), 173.302(f) | To authorize the transportation in commerce of oxidizing gases contained in small pressure vessels via cargo-only aircraft.
21170-N | Westwind Helicopters, Inc | 172.101(j) | To authorize the transportation in commerce of certain hazardous materials by passenger-carrying aircraft in quantities that exceed the limitation in Column (9A) of the 172.101 Table.
Special Permits Data—Withdrawn
3121-M | Department of Defense US Army Military Surface Deployment & Distribution Command | 172.101(i) | To modify the special permit to correct certain references and practices to more accurately align with current regulations and practices.
10631-M | Department of Defense (military Surface Deployment & Distribution Command) | 173.243, 173.244 | To modify the special permit to correct certain references and practices to more accurately align with current regulations and practices.
21058-N | Versum Materials, Inc | 180.209 | To authorize the transportation in commerce of cylinders with a water capacity not exceeding 125 lbs. that have been retested every 10 years as opposed to the 5-year retest frequency required in § 180.209. In addition, it is requested that the special permit provide relief from § 180.209(b)(1)(iv) in that combined acoustic emission and ultrasonic examination (AE/UE) or 100% UE methods are authorized in lieu of hydrostatic testing.
21071-N | The Kansas City Southern Railway Company | 174.85 | To authorize the transportation in commerce of rail shipments without using buffer cars as required by 49 CFR 174.85.
21133-N | Securaplane Technologies, Inc | 172.102(b)(2) | To authorize the transportation in commerce of lithium ion batteries at a state of charge exceeding 30%.
21145-N | Reg Grays Harbor LLC | 173.31(d)(1)(ii) | To authorize the transportation in commerce of tank cars that have been pneumatic positive pressure tested in lieu of visually inspected prior to shipping.

[FR Doc. 2021-07145 Filed 4-6-21; 8:45 am]

BILLING CODE 4910-60-P